FEDERAL RESERVE SYSTEM

Formations of, Acquisitions by, and Mergers of Bank Holding Companies

The companies listed in this notice have applied to the Board for approval, pursuant to the Bank Holding Company Act of 1956 (12 U.S.C. 1841 et seq.) (BHC Act), Regulation Y (12 CFR Part 225), and all other applicable statutes and regulations to become a bank holding company and/or to acquire the assets or the ownership of, control of, or the power to vote shares of a bank or bank holding company and all of the banks and nonbanking companies owned by the bank holding company, including the companies listed below.

The applications listed below, as well as other related filings required by the Board, are available for immediate inspection at the Federal Reserve Bank indicated. The application also will be available for inspection at the offices of the Board of Governors. Interested persons may express their views in writing on the standards enumerated in the BHC Act (12 U.S.C. 1842(c)). If the proposal also involves the acquisition of a nonbanking company, the review also includes whether the acquisition of the nonbanking company complies with the standards in section 4 of the BHC Act (12 U.S.C. 1843). Unless otherwise noted, nonbanking activities will be conducted throughout the United States. Additional information on all bank holding companies may be obtained from the National Information Center website at www.ffiec.gov/nic/.

Unless otherwise noted, comments regarding each of these applications must be received at the Reserve Bank indicated or the offices of the Board of Governors not later than September 18, 2000.

A. Federal Reserve Bank of New York (Betsy Buttrill White, Senior Vice President) 33 Liberty Street, New York, New York 10045-0001:

1. First Niagara Financial Group, Inc., and Niagara Bancorp, MHC, both of Lockport, New York; to acquire 100 percent of the voting shares of Iroquois Bancorp, Inc., Auburn, New York, and Cayuga Bank, Auburn, New York, and for Iroquois Bancorp, Inc., Auburn, New York, to merge with First Niagara Financial Group, Inc., Lockport, New York.

In connection with this application, First Niagara Financial Group, Inc., and Niagara Bancorp, MHC, both of Lockport, New York, have applied to acquire direct and indirect ownership or control of Homestead Savings FA, Utica, New York, a federal savings association, and thereby to engage in certain insurance activities pursuant to 12 C.F.R 225.28(b)(11)(iii), securities brokerage activities pursuant to 12 CFR 225.28(b)(7), providing investment and financial advisory services pursuant to 12 CFR 225.28(b)(6), and owning, controlling or operating a savings association pursuant to 12 CFR 225.28(b)(4).

B. Federal Reserve Bank of Kansas City (D. Michael Manies, Assistant Vice President) 925 Grand Avenue, Kansas City, Missouri 64198-0001:

1. Custer Bancorp, Westcliffe, Colorado; to acquire 100 percent of the voting shares of Orchard Valley Financial Corp., Englewood, Colorado, and thereby indirectly acquire First State Bank of Hotchkiss, Hotchkiss, Colorado.

Dated: Board of Governors of the Federal Reserve System, August 25, 2000.
Robert deV. Frierson,
Associate Secretary of the Board.

[FR Doc. 00-22248 Filed 8-30-00; 8:45 am]

BILLING CODE 6210-01-P